FEDERAL EMERGENCY MANAGEMENT AGENCY

44 CFR Part 67

[Docket No. FEMA-D-7512]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. Elevation in feet (*NGVD) (◆NAVD): Existing | #Depth in feet above ground. Elevation in feet (*NGVD) (◆NAVD): Modified
Alabama | Baldwin County (Unincorporated Areas) | Fish River | Approximately 420 feet upstream of Threemile Creek | ◆105 | ◆104
|  |  | At the upstream side of U.S. Route 51 (State Highway 59) | None | ◆196
|  | Perone Branch | At confluence with Fish River | ◆35 | ◆34
|  |  | At State Highway 59 | None | ◆145
|  | Styx River | At confluence with Perdido River | ◆6 | ◆9
|  |  | At Brady Road (Truck Route 17) | None | ◆77
Maps available for inspection at the Baldwin County Building Department, 201 East Section Street, Bay Minette, Alabama.
Send comments to Mr. Joe Faust, Chairman of the Baldwin County Commission, P.O. Box 1488, Bay Minette, Alabama 36507.
Alabama | Bay Minette (City), Baldwin County | McCurtin Creek Tributary | Approximately 1,725 feet upstream of Rock Hill Road | None | ◆216
|  |  | At dam | None | ◆221
Maps available for inspection at the City Hall, 301 D'Olive Street, Bay Minette, Alabama.
Send comments to The Honorable Sonny Dobbins, Mayor of the City of Bay Minette, P.O. Box 1208, Bay Minette, Alabama 36507.
Alabama | Daphne (City), Baldwin County | D'Olive Creek | At the confluence with D'Olive Bay | ◆12 | ◆13
|  |  | Approximately 100 feet downstream of Lake Forest Dam | ◆12 | ◆13
|  | Mobile Bay | Approximately 2,500 feet west of the intersection of Main Street and Bel Air Drive | ◆17 | ◆19
|  |  | At the intersection of Oak Bluff Drive and Maxwell Avenue | None | ◆13
Maps available for inspection at the Building Inspector's Office, 1705 Main Street, Daphne, Alabama.
Send comments to The Honorable E. Harry Brown, Mayor of the City of Daphne, P.O. Drawer 400, Daphne, Alabama 36526.
Alabama | Fairhope (City), Baldwin County | Mobile Bay | Approximately 900 feet west of the intersection of Main Street and Chapman Street | ◆14 | ◆17
|  |  | At the intersection of Pecan Avenue and Mobile Street | None | ◆11
Maps available for inspection at the Building Department, 161 North Section Street, Fairhope, Alabama.
Send comments to The Honorable Tim Kant, Mayor of the City of Fairhope, P.O. Drawer 429, Fairhope, Alabama 36533.
Alabama | Gulf Shores (Town), Baldwin County | Gulf of Mexico | Approximately 250 feet south of the intersection of State Park RD 2 and Branyon Loop | None | ◆8
|  |  | Approximately 500 feet southeast of the intersection of West Beach Boulevard and Sand Dollar Lane | ◆12 | ◆15
|  | Bon Secour Bay | Approximately 0.7 mile east of intersection of Galloway Lane and Fort Morgan Road | None | ◆10
|  |  | At most northwest corner of the Gulf Shores corporate limits along the Bon Secour Bay shoreline | ◆14 | ◆15
|  | Oyster Bay | Approximately 250 feet north of intersection of Quail Run West and Oyster Bay Lane | None | ◆10
|  |  | Approximately 0.4 mile north of intersection of Quail Run West and Oyster Bay Lane | ◆10 | ◆14
Maps available for inspection at the Community Development Department, 1905 West First Avenue, Gulf Shores, Alabama.
Send comments to The Honorable David Bodenhamer, Mayor of the Town of Gulf Shores, P.O. Box 299, Gulf Shores, Alabama 36547.
Alabama | Orange Beach (City), Baldwin County | Gulf of Mexico | Approximately 400 feet south of the intersection of Perdido Beach Boulevard and Polaris Street | None | ◆8
|  |  | Approximately 1,000 feet south of the intersection of East Beach Boulevard and Hocklander Lane | ◆12 | ◆15
|  | Perdido Bay | Intersection of Mobile Avenue and Camey Drive | None ◆6
|  |  | Approximately 350 feet southeast of intersection of Jackson Avenue and Burkart Drive | ◆8 | ◆9
|  | Wolf Bay | At intersection of Hickory Lane and Canal Road | None | ◆6
|  |  | Approximately 1,250 feet north of the intersection of Magnolia Avenue and Bay Circle | ◆6 | ◆8
Maps available for inspection at the Building Department, 4099 Orange Beach Boulevard, Orange Beach, Alabama.
Send comments to The Honorable Steve Russo, Mayor of the City of Orange Beach, P.O. Box 458, Orange Beach, Alabama 36561.
Alabama | Spanish Fort (City), Baldwin County | Mobile Bay | Approximately 0.4 mile west of the intersection of Spanish Main and Bull Run Road | ◆14 | ◆15
|  |  | Approximately 500 feet west of intersection of Caisson Trail and Spanish Main | None | ◆13
Maps available for inspection at the City of Spanish Fort Flood Protection Administrator's Office, 7581 Spanish Fort Boulevard, Spanish Fort, Alabama.
Send comments to The Honorable Gregory A. Kuhlmann, Mayor of the City of Spanish Fort, P.O. Box 7226, Spanish Fort, Alabama 36577.
Connecticut | Cheshire (Town), New Haven County | Judd Brook | At West Johnson Avenue | *138 | *137
|  |  | Approximately 600 feet upstream of Interstate 84 | *139 | *140
Maps available for inspection at the Town Planning Department, Town Hall, 84 South Main Street, Cheshire, Connecticut.
Send comments to Mr. Michael Milone, Manager of the Town of Cheshire, 84 South Main Street, Cheshire, Connecticut 06410.
Connecticut | Enfield (Town), Hartford County | Waterworks Brook | Approximately 140 feet downstream of breached dam | *55 | *54
|  |  | Approximately 500 feet upstream of Elm Avenue | *121 | *124
|  | Terry Brook | At the confluence with the Scantic River | None | *117
|  |  | Approximately 250 feet upstream of Somers Road | None | *204
Maps available for inspection at the Enfield Town Engineer's Office, 820 Enfield Street, Enfield, Connecticut.
Send comments to Mr. Scott Shanley, Enfield Town Manager, 820 Enfield Street, Enfield, Connecticut 06082-2997.
Connecticut | Marlborough (Town), Hartford County | Blackledge River | Approximately 2,620 feet of West Road | *351 | *352
|  |  | Approximately 550 feet upstream of Jones Hollow Bridge | None | *384
|  | Fawn Brook | Approximately 210 feet upstream of South Main Street | *179 | *180
|  |  | Approximately 2,925 feet upstream of South Main Street | None | *193
|  | Unnamed Tributary of Dickinson Creek | At confluence with Dickinson Creek | None | *419
|  |  | A point approximately 660 feet upstream of State Route 2 | None | *423
Maps available for inspection at the Marlborough Town Planner's Office, Town Hall, 26 North Main Street, Marlborough, Connecticut.
Send comments to Mr. Howard Dean, Jr., Town of Marlborough First Selectman, Town Hall, 26 North Main Street, P.O. Box 29, Marlborough, Connecticut 06447.
Connecticut | Southington (Town), Hartford County | Judd Brook | Approximately 75 feet upstream of Hartford County corporate limits | *138 | *139
|  |  | At confluence of East Branch Judd Brook and Humiston Brook | *143 | *144
|  | Humiston Brook | At confluence of Judd Brook and East Branch Judd Brook | *143 | *144
|  |  | Approximately 50 feet downstream of Marion Avenue | *164 | *166
|  | East Branch Judd Brook | At confluence of Judd Brook and Humiston Brook | *143 | *144
|  |  | Approximately 1,940 feet upstream of Marion Avenue | *186 | *185
Maps available for inspection at the Planning and Zoning Department, 75 Main Street, Southington, Connecticut.
Send comments to Mr. John Weichsel, Manager of the Town of Southington, P.O. Box 610, 75 Main Street, Southington, Connecticut 06489.
Florida | Franklin County (Unincorporated Areas) | Apalachicola Bay | Approximately 2.6 miles southeast of West Pass | *7 | *8
|  |  | Approximately 4.1 miles southwest of Government Cut in St. George Island | *7 | *10
|  | St. George Sound | Just east of St. George Island Bridge | *9 | *10
|  |  | Shoreline of St. George Island at (and include) Marsh Island | *15 | *12
|  | Gulf of Mexico | Approximately 2.6 miles southeast of West Pass | *7 | *8
|  |  | Approximately 1.5 miles southeast of the confluence of Big Claires Creek with Ochlockonee Bay | *21 | *23
|  | Alligator Harbor | Approximately 1,000 feet north of the intersection of State Route 370 and West Harbor Road | *15 | *16
|  |  | Approximately 900 feet east of Peninsula Point | *18 | *17
Maps available for inspection at the Planning and Engineering Department, 33 Commerce Street, Apalachicola, Florida.
Send comments to Mr. Tim Turner, Director of the Franklin County Emergency Management Agency, 33 Commerce Street, Apalachicola, Florida 32320.
Florida | Lake County (Unincorporated Areas) | Leesburg Unnamed Ponding Area | Entire shoreline within community | None | *70
Maps available for inspection at the Lake County Public Works, 123 North Sinclair Avenue, Tavares, Florida.
Send comments to Mr. Jim Stivender, Jr., P.E., P.L.S., 123 North Sinclair Avenue, Tavares, Florida 32778.
Illinois | Milan (Village), Rock Island County | Rock River | Approximately 0.63 mile downstream of Chicago, Rock Island, and Pacific Railroad | *563 | *564
|  |  | Approximately 530 feet upstream of U.S. Route 67 | *565 | *564
|  | North Channel Rock River | At confluence with Rock River | *563 | *564
|  |  | Approximately 300 feet downstream of the Sears Dam | *563 | *564
Maps available for inspection at the Milan Village Administrator's Office, 321 West 2nd Avenue, Milan, Illinois.
Send comments to Mr. Duane Dawson, Milan Village President, Village Hall, 321 West 2nd Avenue, Milan, Illinois 61264.
Illinois | Rock Island (City), Rock Island County | Mississippi River | At confluence of Rock River | *563 | *564
|  |  | Approximately 2,100 feet upstream of confluence with Rock River | *563 | *564
|  | Rock River | At the confluence with Mississippi River | *563 | *564
|  |  | Approximately 0.55 mile downstream of Chicago, Rock Island, and Pacific Railroad | *563 | *564
|  | North Channel Rock River | At confluence with Rock River | *563 | *564
|  |  | Approximately 1,650 feet upstream of confluence with Rock River | *563 | *564
|  | Old Channel Mill Creek | At Interstate 280 | None | *563
|  |  | Approximately 1,280 feet upstream of Interstate 280 | None | *563
Maps available for inspection at the City Hall, 1528 3rd Avenue, Rock Island, Illinois.
Send comments to The Honorable Mark Schwiebert, Mayor of the City of Rock Island, 1528 3rd Avenue, Rock Island, Illinois 61201.
Illinois | Rock Island County (Unincorporated Areas) | Shaffer Creek | At the confluence with Rock River | *572 | *573
|  |  | Approximately 900 feet upstream of East 3rd Avenue | None | 579
Maps available for inspection at the Rock Island County Building, 1504 3rd Avenue, Rock Island, Illinois.
Send comments to Mr. William R. Armstrong, Chairman of the Rock Island County Board, Rock Island County Building, 1504 3rd Avenue, Rock Island, Illinois 61201.
Illinois | Silvis (City), Rock Island County | Unnamed Creek | Approximately 165 feet upstream of the dam | None | *650
|  |  | Approximately 525 feet upstream of the dam | None | *650
Maps available for inspection at the Silvis City Inspector's Office, 1032 1st Avenue, Silvis. Illinois.
Send comments to The Honorable Lyle E. Lohse, Mayor of the City of Silvis, 1032 1st Avenue, Silvis, Illinois 61282.
Indiana | Carmel (City), Hamilton County | Cool Creek | Approximately 0.975 miles upstream of confluence with West Fork White River | *744 | *743
|  |  | At East 146th Street | *816 | *818
|  | Hot Lick Creek | At confluence with Hot Lick Creek | *769 | *770
|  |  | Approximately 450 feet upstream from confluence with Cool Creek | *769 | *770
|  | Little Cool Creek | At confluence with Cool Creek | None | *806
|  |  | Approximately 150 feet downstream of most upstream crossing of East 136th Street | None | *845
|  | Little Eagle Creek | At county boundary | None | *865
|  |  | At West 146th Street | None | *865
|  | Kirkendall Creek | At confluence with Vestal Ditch | None | *768
|  |  | At East 146th Street | None | *770
|  | Mitchener Ditch | Approximately 100 feet downstream of Cherry Tree Road | None | *771
|  |  | At East 146th Street | None | *804
|  | Spring Mill Run | Approximately 300 feet upstream of confluence with Williams Creek | None | *794
|  |  | At confluence with Well Run | None | *853
|  | Vestal Ditch | At confluence with West Fork White River | None | *746
|  |  | At East 146th Street | None | *769
|  | Well Run | At confluence with Spring Mill Run | None | *853
|  |  | Approximately 1,000 feet downstream of Torrey Pines Circle | None | *860
Maps available for inspection at the City of Carmel Department of Community Services, 1 Civic Square, Carmel, Indiana.
Send comments to The Honorable James Brainard, Mayor of the City of Carmel, 1 Civic Square, Carmel, Indiana 46032.
Indiana | Grant County (Unincorporated Areas) | Lugar Creek | At the confluence with Mississinewa River | None | *794
|  |  | At confluence with Monroe Ditch and Tippey Ditch | None | *835
|  | Monroe Ditch | At the confluence with Lugar Creek | None | *835
|  |  | A point approximately 1.4 miles upstream of State Route 700 | None | *851
|  | Tippey Ditch | At the confluence with Lugar Creek | None | *835
|  |  | Downstream side of Bradford Pike | None | *841
|  | Mississinewa River | Approximately 0.4 mile upstream of State Routes 9 and 13 | None | *784
|  |  | Approximately 1,600 feet downstream of confluence of Bean Run | None | *824
Maps available for inspection at the Grant County Area Planning Office, 401 South Adams Street, Marion, Indiana.
Send comments to Mr. David Glickfield, Chairman of the Grant County Board of Commissioners, 401 South Adams Street, Marion, Indiana 46953.
Maine | Lebanon (Town),York County | Salmon Falls River | At downstream corporate limits | None | *190
|  |  | At upstream corporate limits | None | *421
Maps available for inspection at the Lebanon Code Enforcement Office, 655 Upper Guinea Road, Lebanon, Maine.
Send comments to Mr. Gilber Zinck, Chairman of the Town of Lebanon Selectmen, P.O. Box 339, Lebanon, Maine 04027.
Maine | Princeton (Town), Washington County | Grand Falls Flowage | Entire shoreline within the Town of Princeton | None | *204
|  | Lewy Lake | Entire shoreline within the Town of Princeton | None | *204
|  | Long Lake | Entire shoreline within the Town of Princeton | None | *204
Maps available for inspection at the Princeton Town Office, 15 Depot Street, Princeton, Maine.
Send comments to Mr. Greg Monk, Chairman of the Town of Princeton Board of Selectmen, P.O. Box 408, Princeton, Maine 04668.
Massachusetts | Westwood (Town), Norfolk County | Bubbling Brook | Approximately 40 feet upstream of the confluence with Pettee Pond | *145 | *144
|  |  | Approximately 800 feet upstream of North Street | None | *228
|  | Mill Brook | Approximately 40 feet upstream of confluence with Pettee Pond | *145 | *144
|  |  | Approximately 1,000 feet upstream of Hartford Street | *240 | *236
|  | Purgatory Brook | At Everett Street | *69 | *66
|  |  | Approximately 1.19 miles upstream of Gay Street | None | *175
|  | South Brook | At the confluence with Purgatory Brook | *71 | *67
|  |  | Downstream side of East Street | *78 | *76
Maps available for inspection at the Westwood Building Department, 50 Corby Street, Westwood, Massachusetts.
Send comments to Mr. Thomas J. Dunn, Chairman of the Town of Westwood Board of Selectmen, Town of Westwood, 580 High Street, Westwood, Massachusetts 02090.
Minnesota | Blaine (City), Anoka County | County Ditch 41 (Sand Creek) | At upstream side of 117th Avenue | None | *892
|  |  | Approximately 1,100 feet upstream of State Route 65 | None | *895
|  | County Ditch 60 (Branch 1) | Approximately 350 feet downstream of Jefferson Street | *891 | *894
|  |  | At State Route 14 downstream side of Polk Street | *896 | *895
|  | Pleasure Creek | Approximately 450 feet upstream of University Avenue | *891 | *892
|  |  | At 98th Lane | *894 | *893
Maps available for inspection at the City of Blaine Administrative Office, Engineering Department, 9150 Central Avenue Northeast, Blaine, Minnesota.
Send comments to The Honorable Thomas Ryan, Mayor of the City of Blaine, City of Blaine Administrative Office, 9150 Central Avenue Northeast, Blaine, Minnesota 55434.
New Hampshire | Conway (Town), Carroll County | Kearsarge Brook | At the Conway Scenic Railroad bridge | *472 | *471
|  |  | Approximately 0.36 mile upstream of Cranmore Road bridge | None | *550
|  | Pequawket Road | Entire shoreline within community | *465 | *464
Maps available for inspection at the Town Hall, 1634 East Main Street, Center Conway, New Hampshire.
Send comments to Mr. Gary Webster, Chairman of the Town of Conway Board of Selectmen, Town Hall, P.O. Box 70, Center Conway, New Hampshire 03813.
New Hampshire | Strafford (Town), Strafford County | Bow Lake | Entire shoreline in the Town of Strafford | None | *517
Maps available for inspection at the Town Office, Route 202A, Center Strafford, New Hampshire.
Send comments to Mr. Lester Huckins, Chairman of the Town of Strafford Board of Selectmen, Town Office, P.O. Box 23, Center Strafford, New Hampshire 03815.
New Jersey | Berkeley (Township), Ocean County | Atlantic Ocean | At 10th Lane, extended | *13 | *16
|  |  | Approximately 100 feet east of intersection of 10th Lane and East Central Avenue | *9 | #1
|  | Barnegat Bay | Shoreline at Balsem Drive, extended | *6 | *9
|  |  | Approximately 1 mile northeast of Sedge Islands | *9 | *6
Maps available for inspection at the Berkeley Town Hall, 627 Pinewald-Keswick Road, Bayville, New Jersey 08721-0287.
Send comments to Mr. Leonard Roeber, Berkeley Township Administrator, 627 Pinewald-Keswick Road, P.O. Box B, Bayville, New Jersey 08721-0287.
New York | Fort Plain (Village), Montgomery County | Otsquago Creek | Approximately 540 feet upstream of the confluence with the Mohawk River | *305 | *306
|  |  | Approximately 50 feet upstream of State Route 80 | *335 | *336
Maps available for inspection at the Fort Plain Village Hall, 168 Canal Street, Fort Plain, New York.
Send comments to The Honorable Thomas L. Quackenbush, Mayor of the Village of Fort Plain, Fort Plain Village Hall, 168 Canal Street, Fort Plain, New York 13339.
New York | Herkimer (Village), Herkimer County | West Canada Creek | Approximately 600 feet downstream of East State Street (State Route 5) | *388 | *387
|  |  | At the upstream corporate limits with the Town of Herkimer (approximately 1.36 miles upstream of East State Street) | *414 | *413
Maps available for inspection at the Herkimer Village Municipal Hall, 120 Green Street, Herkimer, New York.
Send comments to Mr. James Franco, Herkimer County Department of Public Works, South Washington, Street, Herkimer, New York 13350.
New York | Jay (Town), Essex County | East Branch Ausable River | At the confluence with Ausable River | *551 | *550
|  |  | At the upstream corporate limits (approximately 2.24 miles upstream of NYS Route 9N) | None | *724
|  | Ausable River | At the downstream corporate limits | None | *491
|  |  | At the confluence of East and West Branches of Ausable River | *551 | *550
|  | Tributary to East Branch Ausable River | At the confluence with East Branch Ausable River | None | *589
|  |  | At NYS Route 9R | None | *765
|  | West Branch Ausable River | At the confluence with the Ausable River and East Branch Ausable River | *551 | *550
|  |  | Approximately 250 feet upstream of the confluence with the Ausable River | *553 | *552
Maps available for inspection at the Jay Town Hall, School Street, Ausable Forks, New York.
Send comments to Mr. Thomas O'Neill, Jay Town Supervisor, P.O. Box 730, Ausable Forks, New York 12912.
New York | Port Jervis (City), Orange County | Neversink River | Downstream corporate limits | *432 | *427
|  |  | Approximately 0.05 mile downstream of Main Street | *431 | *427
|  | Delaware River | Downstream corporate limits | *451 | *448
|  |  | Upstream corporate limits | *431 | *426
Maps available for inspection at the Port Jervis Municipal Building, 14 Hammond Street, Port Jervis, New York 12771.
Send comments to The Honorable R. Michael Worden, Mayor of the City of Port Jervis, P.O. Box 1002, Port Jervis, New York 12771.
North Carolina | Belmont (City), Gaston County | Catawba River | Approximately 3,650 feet downstream of Norfolk Southern Railroad | None | *585
|  |  | Approximately 250 feet upstream of Interstate 85 | None | *587
|  | South Fork Catawba River | Approximately 3.18 miles upstream of Armstrong Road | *569 | *571
|  |  | At Armstrong Ford Road | *570 | *571
|  | Curtis Branch | At confluence with South Fork Catawba River | *569 | *571
|  |  | Approximately 980 feet upstream of the confluence with South Fork Catawba River | *570 | *571
Maps available for inspection at the Belmont City Hall, 115 North Main Street, Belmont, North Carolina.
Send comments to The Honorable Billy Joye, Mayor of the City of Belmont, P.O. Box 431, Belmont, North Carolina 28012.
North Carolina | Bessemer City (City), Gaston County | Unnamed Tributary 2 to Long Creek | Approximately 1,645 feet downstream of Iowa Avenue | None | *793
|  |  | Approximately 325 feet upstream of Maine Avenue | None | *820
|  | Oates Creek | Approximately 1.12 miles upstream of Interstate 85 | None | *790
|  |  | Approximately 1.5 feet upstream of Interstate 85 | None | *840
|  | Unnamed Tributary 1 to Long Creek | Approximately 290 feet downstream of Arrowood Dam | None | *788
|  |  | Approximately 1,190 feet upstream of Arrowood Dam | None | *830
|  | Unnamed Tributary to Abernathy Creek | Approximately 650 feet upstream of Eleventh Street | None | *789
|  |  | Approximately 875 feet upstream of Eleventh Street | None | *790
Maps available for inspection at the Bessemer City Hall, 132 West Virginia Avenue, Room 207, Bessemer City, North Carolina.
Send comments to The Honorable Allan Farris, Mayor of the City of Bessemer City, 132 West Virginia Avenue, Bessemer City, North Carolina 28016.
North Carolina | Cherryville (Town), Gaston County | Beaverdam Creek | Approximately 150 feet downstream of Sullivan Road | None | *868
|  |  | Approximately 500 feet upstream of Pink Street | None | *916
|  |  | Approximately 1.31 miles upstream of 8th Avenue | *601 | *611
Maps available for inspection at the Cramerton Town Hall, 155 North Main Street, Cramerton, North Carolina.
Send comments to The Honorable Cathy Biles, Mayor of the Town of Cramerton, 155 North Main Street, Cramerton, North Carolina 28032.
North Carolina | Gaston County (Unincorporated Areas) | Catawba Creek | Approximately 1,475 feet upstream Beaty Road | *618 | *626
|  |  | Approximately 838 feet downstream of Union New Hope Road | None | *588
|  | Catawba River | Approximately 2.8 miles upstream of confluence with Dutchman's Creek | None | *594
|  |  | At confluence with South Fork Catawba River | None | *571
|  | Duharts Creek | Approximately 0.60 mile downstream of Cramerton-McAdenville Road | *596 | *604
|  |  | Approximately 0.35 mile upstream of Lowell-Bethesda Road | *652 | *656
|  | Fites Creek | Approximately 75 feet upstream of CSX Transportation | *619 | *620
|  |  | Approximately 1.1 miles upstream of West Catawba Avneue | None | *674
|  | Tributary R-5 | Approximately 150 feet downstream of Interstate 85 | None | *713
|  |  | Approximately 0.50 mile upstream of Oates Road | None | *814
|  | Unnamed Tributary 1 to Long Creek | Confluence with Long Creek | None | *773
|  |  | Approximately 325 feet downstream of Arrowwood Dam | None | *788
|  | Unnamed Tributary 2 to Long Creek | Confluence with Long Creek | None | *741
|  |  | Approximately 1,645 feet downstream of Iowa Avenue | None | *793
|  | Unnamed Tributary to Abernathy Creek | Approximately 625 feet upstream of Eleventh Street | None | *789
|  |  | Confluence with Abernathy Creek | None | *720
|  | Abernathy Creek | Approximately 50 feet upstream of U.S. Route 29/74 | None | *716
|  |  | Approximately 660 feet upstream of Interstate 85 | None | *771
|  | Beaverdam Creek | Approximately 425 feet downstream of Dallas Cherryville Highway | None | *834
|  |  | Approximately 275 feet downstream of Pink Street | None | *909
|  | Oates Creek | Approximately 100 feet downstream of Interstate 85 | None | *726
|  |  | Approximately 6,025 feet upstream of Interstate 85 | None | *790
|  | Tributary C-10 | At the confluence with Tributary C-10-1 | *712 | *715
|  |  | Approximately 100 feet upstream of East Hudson Boulevard | *726 | *732
|  | Tributary C-10-1 | Approximately 575 feet downstream of East Hudson Boulevard | *724 | *720
|  |  | Approximately 650 feet upstream of East Hudson Boulevard | None | *731
|  | Kittys Branch | At the confluence with Catawba River | *571 | *585
|  |  | Approximately 40 feet downstream of CSX Railroad | *584 | *585
|  | South Fork Catawba River | At the confluence with Catawba River | *569 | *571
|  |  | At North Carolina State Road 2519 | *569 | *571
|  | Nancy Hanks Branch | At confluence with Catawba River | *571 | *585
|  |  | Approximately 3,620 feet upstream of confluence with Catawba River | *584 | *585
|  | Stowe Branch | At the confluence with Catawba River | *572 | *585
|  |  | Approximately 1,470 feet upstream of confluence of the Stowe Branch Tributary | *584 | *585
|  | Stowe Tributary | At the confluence with Stowe Branch | *576 | *585
|  |  | Approximately 1,260 feet upstream of confluence with Stowe Branch | *584 | *585
Maps available for inspection at the Gaston County Planning/Code Enforcement Office, 212 West Main Avenue, Gastonia, North Carolina.
Send comments to Mr. Philip Ponder, Interim Gaston County Manager, P.O. Box 1578, Gastonia, North Carolina 28053.
North Carolina | Gastonia (City), Gaston County | Forest Brook Branch | At confluence with Catawba Creek | *628 | *635
|  |  | Approximately 125 feet upstream of Pineridge Avenue | *819 | *821
|  | Duharts Creek | Approximately 0.48 mile downstream of Lowell-Bethesda Road | *623 | *628
|  |  | Approximately 450 feet upstream of Redbud Road | *665 | *666
|  | Catawba Creek | Approximately 0.85 mile downstream of confluence with Forest Brook Branch | *617 | *625
|  |  | Approximately 650 feet upstream of Vance Street | None | *769
|  | Tributary C-3 | At the confluence with Catawba Creek | *644 | *649
|  |  | Approximately 1,200 feet upstream of Steeple Chase Road | *699 | *696
|  | Tributary C-4 | At the confluence with Catawba Creek | *648 | *655
|  |  | Approximately 2,000 feet upstream of the confluence with Catawba Creek | *674 | *681
|  | Tributary C-5 | At the confluence with Catawba Creek | *654 | *658
|  |  | Approximately 1,350 feet upstream of East Hudson Boulevard | *687 | *681
|  | Tributary C-5-1 | At the confluence of Tributary C-5 | *660 | *658
|  |  | Approximately 1,325 feet upstream of East Hudson Boulevard | *691 | *680
|  | Tributary C-6 | At the confluence with Catawba Creek | *678 | *680
|  |  | Approximately 0.4 mile upstream of East Hudson Boulevard | *730 | *735
|  | Tributary C-7 | Approximately 250 feet upstream of the confluence with Catawba Creek | *696 | *695
|  |  | Approximately 480 feet upstream of Laurel Lane | *734 | *731
|  | Tributary C-8 | At the confluence with Catawba Creek | *695 | *699
|  |  | Approximately 0.34 mile upstream of Scotch Drive | *733 | *736
|  | Tributary C-9 | At the confluence with Catawba Creek | *697 | *702
|  |  | Approximately 0.30 mile upstream of confluence with Catawba Creek | *714 | *717
|  | Tributary C-10 | At the confluence with Catawba Creek | *704 | *714
|  |  | Approximately 100 feet upstream of East Hudson Boulevard | *726 | *732
|  | Tributary C-10-1 | At the confluence with Tributary C-10 | *712 | *715
|  |  | Approximately 575 feet downstream of East Hudson Boulevard | *724 | *720
|  | Tributary C-11 | At the confluence with Catawba Creek | *712 | *717
|  |  | Approximately 1,210 feet upstream of Efird Street | *757 | *759
|  | Tributary C-12 | At the confluence with Catawba Creek | *713 | *718
|  |  | Approximately 275 feet upstream of Oakland Street | *762 | *760
|  | Tributary C-14 | At the confluence with Catawba Creek | *725 | *728
|  |  | Approximately 300 feet upstream of Tenth Avenue | *732 | *735
|  | Tributary C-15 | At the confluence with Catawba Creek | *733 | *737
|  |  | Approximately 540 feet upstream of Home Trail | *747 | *746
|  | Tributary C-16 | At the confluence with Catawba Creek | *743 | *744
|  |  | Approximately 475 feet upstream of the confluence of Tributary C-16-1 | *749 | *753
|  | Tributary C-16-1 | At the confluence with Tributary C-16 | *745 | *747
|  |  | Approximately 1,310 feet upstream of the confluence with Tributary C-16 | *756 | *758
|  | Tributary R-5 | Approximately 0.32 mile from confluence of Crowders Creek | *689 | *688
|  |  | Approximately 350 feet from confluence of Oates Creek | *708 | *707
|  | Avon Creek | At the confluence with Catawba Creek | *701 | *703
|  |  | Approximately 75 feet downstream of U.S. Route 29/74 | *779 | *778
|  | Oates Creek | At the confluence with Tributary R-5 | None | *708
|  |  | Approximately 100 feet downstream of Interstate 85 | None | *726
Maps available for inspection at the City of Gastonia Engineer's Office, 181 South Street, Gastonia, North Carolina.
Send comments to The Honorable Jennifer Stultz, Mayor of the City of Gastonia, P.O. Box 1748, Gastonia,
North Carolina | McAdenville (Town), Gaston County | South Fork Catawba River | Approximately 2,950 feet downstream of Main Street | None | *584
|  |  | Approximately 1.9 miles upstream of Highway 85 | None | *611
Maps available for inspection at the McAdenville Town Hall, 125 Main Street, McAdenville, North Carolina.
Send comments to The Honorable Jerry Helton, Mayor of the Town of McAdenville, P.O. Box 9, McAdenville, North Carolina 28101.
North Carolina | Mount Holly (City), Gaston County | Catawba River | Approximately 230 feet upsream of Interstate 85 | None | *587
|  |  | Approximately 1,910 feet upstream of confluence of dutchmans Creek | None | *591
|  | Fites Creek | At confluence with Catawba River | None | *589
|  |  | Approximately 2,850 feet upstream of Belton Avenue | *612 | *615
|  | Dutchmans Creek | At confluence with Catawba River | *577 | *592
|  |  | Approximately 3,750 feet upstream of Main Street | *591 | *592
Maps available for inspection at the Mount Holly City Hall, 131 South Main Street, Mount Holly, North Carolina.
Send comments to The Honorable Frank McLean, Mayor of the City of Mount Holly, P.O. Box 406, Mount Holly, North Carolina 28120.
Ohio | Montezuma (Village), Mercer County | Grand Lake-St. Marys | At intersection of Wyatt Street and Canal Street | None | *873
Maps available for inspection at the Montezuma Village Hall, 69 West Main Street, Montezuma, Ohio.
Send comments to The Honorable Charlotte Garman, Mayor of the Village of Montezuma, P.O. Box 178, Montezuma, Ohio 45866.
Ohio | Niles (City), Trumball County | Meander Creek | Approximately 0.6 mile upstream of CSX Transportation | *861 | *862
|  |  | Approximately 50 feet upstream of corporate limits | *861 | *862
Maps available for inspection at the Niles Building and Zoning Department, 34 West State Street, Niles, Ohio.
Send comments to The Honorable Ralph Infante, Mayor of the City of Niles, 34 West State Street, Niles, Ohio 44446.
Pennsylvania | Browmanstown (Borough), Carbon County | Lehigh River | Approximately 0.76 mile downstream of State Route 895 | None | *417
|  |  | Approximately 0.49 mile upstream of State Route 895 | None | *432
|  | Fireline Creek | At confluence with Lehigh River | None | *424
|  |  | Approximately 1,750 feet downstream of Cherry Hill Road | None | *545
Maps available for inspection at the Bowmanstown Borough Hall, Mill and Ore Streets, Browmanstown, Pennsylvania.
Send comments to Mr. Verdell Steigerwalt, President of the Bowmanstown Borough Council, P.O. Box 127, Bowmanstown, Pennsylvania 18030.
Pennsylvania | East Penn (Township), Carbon County | Lehigh River | Approximately 1.7 miles downstream of Palmerton Dam | *385 | *388
|  |  | Approximately 5,100 feet upstream of State Route 895 | *437 | 438
Maps available for inspection at the East Penn Township Building, 167 Municipal Road, Lehighton, Pennsylvania.
Send comments to Mr. Gordon Scherer, Chairman of the East Penn Township Board of Supervisors, 167 Municipal Road, Lehighton, Pennsylvania.
Pennsylvania | Franklin (Township), Carbon County | Lehigh River | Approximately 1 mile downstream of State Route 209 | *449 | *452
|  |  | Approximately 0.82 mile downstream of Lehigh Valley Railroad | *491 | *497
Maps available for inspection at the Franklin Township Hall, 900 Fairyland Road, Lehighton, Pennsylvania.
Send comments to Mr. Glen Haydt, Chairman of the Franklin Township Board of Supervisors, 900 Fairyland Road, Lehighton, Pennsylvania 18235.
Pennsylvania | Jim Thorpe (Borough), Carbon | Lehigh River | Approximately 0.82 mile downstream of Lehigh Valley Railroad | *491 | *497
|  |  | Approximately 2 mile upstream of State Route 903 | None | *564
Maps available for inspection at the Jim Thorpe Borough Hall, 101 East Tenth Street, Jim Thorpe, Pennsylvania.
Send comments to Mr. Mike Sofranko, President of the Borough of Jim Thorpe, 101 East Tenth Street, Jim Thorpe, Pennsylvania 18229.
Pennsylvania | Langhorne Manor (Borough), Bucks | Chubb Run | At Comly Avenue | *83 | *96
|  |  | Approximately 90 feet Approximately 90 feet upstream of Gillam Avenue | *196 | *197
Maps available for inspection at the Langhorne Borough Building, 618 Hulmeville, Langhorne Manor, Pennsylvania.
Send comments to Ms. Maryann Barnes, Borough of Langhorne Manor, Council President, 618 Hulmeville Road, Langhorne Manor, Pennsylvania 19047.
Pennsylvania | Lehighton (Borough), Carbon County | Lehigh River | Approximately 1,160 feet downstream of State Route, 209 | *459 | *464
|  |  | Approximately 1.3 miles Approximately 90 feet upstream of State Route 209 | *475 | *482
|  | Mahoning Creek | At the confluence with Lehigh River | *459 | *464
|  |  | Approximately 1,600 feet upstream of the confluence with Lehigh River | *463 | *464
Maps available for inspection at the Lehighton Borough Hall, 1 Constitution Avenue, Lehighton, Pennsylvania.
Send comments to Mr. John Hanosek, Manager of the Borough of Lehighton, P.O. Box 29, Lehighton, Pennsylvania 18235
Pennsylvania | Lower Towamensign (Township), Carbon County | Lehigh River | Approximately 1.7 miles downstream of Palmerton Dam | *None | *388
|  |  | Approximately 620 feet downstream of Pennsylvania Turnpike | None | *443
|  | Aquashicola Creek | At the confluence with Lehigh River | None | *393
|  |  | Approximately 2 mile upstream of State Route 903 | None | *468
|  | Fireline Creek | Approximately 1,750 feet downstream of Cherry Hill Road | None | *545
|  |  | Approximately 1.2 miles upstream of Cherry Hill Road | None | *687
Maps available for inspection at the Lower Towamensing Township Hall, 595 Hahns Dairy Road, Palmerton, Pennsylvania.
Send comments to Mr. Glen Hahn, Chairman of the Lower Towamensing Township Board of Supervisors, 595 Hahns Dairy Road, Palmerton, Pennsylvania 18071.
Pennsylvania | Mahoning (Township), Carbon County | Lehigh River | Approximately 5,100 feet upstream of State Route 895 | *437 | *438
|  | Mahoning Creek | At the confluence with Lehigh River | *459 | *464
|  |  | Approximately 500 upstream of confluence with Lehigh River | *463 | *464
Maps available for inspection at the Mahoning Township Office, 2685 Mahoning Drive East, Lehighton, Pennsylvania.
Send comments to Mr. Bruce L. Keiper, Chairman of the Mahoning Township Board of Supervisors, 2685 Mahoning Drive East, Lehighton, Pennsylvania 18235.
Pennsylvania | Middletown (Township), Bucks County | Chubb Run | At confluence with Neshaminy Creek | None | *40
|  |  | Approximately 90 feet upstream of Gillam Avenue | *196 | *197
Maps available for inspection at the Middletown Township Zoning and Planning Office, 2140 Trenton Road, Levittown, Pennsylvania.
Send comments to Mr. Burke, Middletown Township Manager, 2140 Trenton Road, Levittown, Pennsylvania 18235.
Pennsylvania | Nesquehoning (Borough), Carbon County | Lehigh River | Approximately 2 miles upstream of State Route 903 | None | *564
|  | Nesquehoning Creek | At confluence with Lehigh River | None | *555
|  |  | Approximately 1,850 feet upstream of of Tonolli Corporate Road | None | *1,014
Maps available for inspection at the Nesquehoning Borough Hall, 114 West Catawissa, Nesquehoning, Pennsylvania.
Send comments to Mr. Joseph Greco, Secretary of the Borough of Nesquehoning, 114 West Catawissa, Nesquehoning, Pennsylvania 18240.
Pennsylvania | Palmerton (Borough), Carbon County | Lehigh River | Approximately 5,070 feet downstream of Palmerton Dam | None | *395
|  |  | Approximately 1.37 miles upstream of Palmerton Dam | *418 | *417
|  | Aquashicola Creek | Approximately 1.4 miles upstream of State Route 248 | *393 | *394
|  |  | Approximately 1,000 feet downstream of CONRAIL | *417 | *418
Maps available for inspection at the Palmerton Borough Hall, 443 Delaware Avenue, Palmerton, Pennsylvania.
Send comments to Mr. John Vignone, Council President of the Borough of Palmerton, 443 Delaware Avenue, Palmerton, Pennsylvania 18071.
Pennsylvania | Parryville (Borough), Carbon County | Lehigh River | Approximately 850 feet downstream of Pennsylvania Turnpike | *439 | *443
|  |  | Approximately 1 mile downstream of State Route 209 | *449 | *452
|  | Pohopoco Creek | At confluence with Lehigh River | *439 | *443
|  |  | Approximately 1,175 feet upstream of confluence with Lehigh River | *442 | *443
Maps available for inspection at the Parryville Borough Hall, 967 Cherryhill Road, Parryville, Pennsylvania.
Send comments to Ms. Bernice Bashore, Council President of the Borough of Parryville, P.O. Box 263, Parryville, Pennsylvania 18244.
Pennsylvania | Penndel (Borough), Bucks County | Chubb Run | Approximately 0.70 feet upstream of Hulmeville Road | None | *62
|  |  | Just downstream of CONRAIL | None* | 80
Maps available for inspection at the Penndel Borough Office, 300 Bellevue Avenue, Penndel, Pennsylvania.
Send comments to Ms. Arlene Harms, Borough of Penndel Council President, 300 Bellevue Avenue, Penndel, Pennsylvania 19047.
Pennsylvania | Weissport (Borough), Carbon County | Lehigh River | Approximately 0.52 mile downstream of State Route 209 | *457 | *460
|  |  | Approximately 700 feet upstream Central Railroad | *472 | *475
Maps available for inspection at the Weissport Borough Hall, 440 Allen Street, Weissport, Pennsylvania.
Send comments to Mr. Carl Wolfe, Jr., Borough of Weissport Zoning Officer, P.O. Box 339, Lehighton, Pennsylvania 18235.
Tennessee | Chattanooga (City), Hamilton County | North Chickamauga Creek | At confluence with the Tennessee River | *661 | *660
|  |  | Approximately 200 feet downstream of Thrasher Pike | *684 | *682
|  | Tennessee River | Approximately 1,625 feet downstream of Shoal Creek | *651 | *650
|  |  | Just downstream of Chickamauga Dam | *661 | *660
|  | Mountain Creek | At the confluence with the Tennessee River | *653 | *652
|  |  | Approximately 1,109 feet upstream of the Norfolk Southern Railway | *653 | *652
|  | Lookout Creek | At the confluence with Tennessee River | *655 | *654
|  |  | Approximately 160 feet upstream of the confluence of Black Creek | *655 | *654
|  | Black Creek | At the confluence with Lookout Creek | *655 | *654
|  |  | At downstream side of Norfolk Southern Railway (first crossing) | *655 | *654
|  | Shallow Flooding Areas | In the vicinity of the Tennessee River, south of Cherokee Boulevard | *657 | *656
|  | Stringers Branch | At the confluence with Mountain Creek | *653 | *652
|  |  | At Signal Mountain Boulevard | *653 | *652
|  | Chattanooga Creek | Approximately 850 feet downstream of Market Street | *656 | *655
|  |  | At downstream side of Norfolk Southern Railway | *656 | *655
Maps available for inspection at the City of Chattanooga City Hall Annex, 101 East 11th Street, Room 44, Chattanooga, Tennessee.
Send comments to The Honorable Bob Corker, Mayor of the City of Chattanooga, City Hall, East 11th Street, Room 100, Chattanooga, Tennessee 37402.
Tennessee | Collegedale (City), Hamilton County | Wolftever Creek Tributary | At the confluence with Wolftever Creek | *762 | *761
|  |  | Approximately 950 feet upstream of Bill Reed Road | None | *790
|  | Wolftever Creek | At the confluence of Wolftever Creek Tributary | *762 | *761
|  |  | Approximately 400 feet upstream of Ringgold-Ooltawah Road | *767 | *766
Maps available for inspection at the City of Collegedale Public Safety Director's Office, 4910 Swinyar Drive, Collegedale, Tennessee.
Send comments to Mr. Bill Magoon, Collegedale City Manager, P.O. Box 1880, Collegedale, Tennessee 37315.
Tennessee | East Ridge (City), Hamilton County | Spring Creek | At Interstate 75 | *678 | *679
|  |  | At Spring Creek Road | *678 | *679
|  | South Chickamauga Creek | Approximately 800 feet downstream of Louisville and Nashville Railroad | *677 | *678
|  |  | At upstream state boundary | *691 | *689
Maps available for inspection at the Building Department, 1517 Tombras Avenue, East Ridge, Tennessee.
Send comments to The Honorable Fred Pruett, Mayor of the City of East Ridge, 1517 Tombras Avenue, East Ridge, Tennessee 37412.
Tennessee | Hamilton County (Unincorporated Areas) | Rogers Branch | At confluence with Wolftever Creek | *688 | *687
|  |  | At Access/Mountain View Road | None | *748
|  | Rogers Branch Tributary | At confluence with Rogers Branch | None | *719
|  |  | Approximately 550 feet upstream of Interstate 75 | None | *742
|  | Wolftever Creek | At the confluence with Wolftever Creek | *762 | *761
|  |  | Approximately 2,000 feet upstream of Bill Reed Road | None | *795
|  | Wolftever Creek Tributary | At the confluence of Wolftever Creek Tributary | *762 | *761
|  |  | Approximately 350 feet upstream of confluence of Wolftever Creek Tributary | *762 | *761
|  | Little Soddy Creek | At the City of Soddy-Daisy corporate limits | None | *820
|  |  | Approximately 120 feet upstream of the City of Soddy-Daisy corporate limits | None | *823
|  | Lookout Creek | Approximately 135 feet downstream of the Norfolk Southern Railway | *655 | *654
|  |  | Approximately 525 feet upstream of Cummings Highway | *655 | *654
|  | Tennessee River | At the county boundary | *649 | *646
|  |  | At the confluence of Shoal Creek | *652 | *650
|  | Fruedenberg Creek | Approximately 250 feet upstream of confluence of Middle Creek | None | *1,670
|  |  | Approximately 0.9 mile upstream of confluence of Middle Creek | None | *1,777
|  | Lick Branch | At confluence with North Chickamauga Creek | *671 | *670
|  |  | Approximately 50 feet downstream of Thrasher Pike | None | *676
|  | Lick Branch Tributary 1 | At confluence with Lick Branch | *671 | *670
|  |  | Approximately 100 feet downstream of Thrasher Pike | None | *683
|  | Lick Branch Tributary 2 | At confluence with Lick Branch | *671 | *670
|  |  | Approximately 50 feet downstream of Thrasher Pike | None | *675
|  | Lick Branch Tributary 3 | At confluence with Lick Branch | *671 | *670
|  |  | Approximately 50 feet downstream of Thrasher Pike | None | *680
|  | Middle Creek | Approximately 1,100 feet downstream of Edwards Point Road | *670 | *669
|  |  | Approximately 50 feet downstream of Timesville Road | *754 | *753
|  | North Chickamauga Creek | At the upstream side of Lower Mill Road | *670 | *669
|  |  | Approximately 1 mile upstream of Dayton Pike | *754 | *753
|  | Possum Creek | At Lee Pike | *688 | *862
|  |  | Approximately 1.4 miles upstream of Black Valley Road | *861 | *687
|  | Sale Creek | At the confluence with the Tennessee River | *687 | *688
|  |  | Approximately 1,580 feet upstream of the confluence with the Tennessee River | *687 | *688
Maps available for inspection at the Regional Planning Agency, County Courthouse, Room 208, Chattanooga, Tennessee.
Send comments to Mr. Claude Ramsey, Hamilton County Executive, County Courthouse, Room 208, Chattanooga, Tennessee 37402.
Tennessee | Red Bank (City), Hamilton County | Stringers Branch | Approximately 400 feet downstream of Signal Mountain Boulevard | *653 | *652
|  |  | At Barker Road | None | *785
Maps available for inspection at the Red Bank City Hall, 3117 Dayton Boulevard, Red Bank, Tennessee.
Send comments to The Honorable Ronnie Moore, Mayor of the City of Red Bank, 3117 Dayton Boulevard, P.O. Box 15069, Red Bank, Tennessee 37415.
Tennessee | Selmer (City), McNairy County | Cypress Creek | Approximately 1,700 feet downstream of South Fourth Street | None | *433
|  |  | Approximately 1,855 feet upstream of Purdy Road | None | *444
|  | Crooked Creek | At the confluence with Cypress Creek | None | *439
|  |  | Approximately 0.5 mile upstream of Highschool Road | None | *459
Maps available for inspection at the City Hall, 144 North Second Street, Selmer, Tennessee.
Send comments to The Honorable Jimmy Whittington, Mayor of the City of Selmer, 144 North Second Street, Selmer, Tennessee 38375.
Tennessee | Signal Mountain (Town), Hamilton County | Middle Creek | At Edwards Point Road | None | *1,641
|  |  | Approximately 850 feet upstream of Middle Creek Road | None | *1,675
|  | Fruedenberg Creek | At confluence with Middle Creek | None | *1,667
|  |  | Approximately 0.9 mile upstream of confluence with Middle Creek | None | *1,774
Maps available for inspection at the Building Inspector's office, 1111 Ridgeway Avenue, Signal Mountain, Tennessee.
Send comments to The Honorable James Althaus, Mayor of the Town of Signal Mountain, 1111 Ridgeway Avenue, Signal Mountain, Tennessee 37377.
Tennessee | Soddy-Daisy (City), Hamilton County | North Chickamauga Creek | Approximately 200 feet downstream of Thrasher Pike | *684 | *682
|  |  | Approximately 1 mile upstream of Dayton Pike | *754 | *753
|  | Poe Branch | Approximately 2,500 feet downstream of Harrison Lane | *685 | *684
|  |  | Approximately 1,325 feet upstream of Card Road | None | *741
|  | Soddy Creek | Approximately 50 feet upstream of the Norfolk Southern Railway | *755 | *748
|  |  | Approximately 740 feet upstream of the Norfolk Southern Railway | None | *758
Maps available for inspection at the City Hall Office, 9835 Dayton Pike, Soddy-Daisy, Tennessee.
Send comments to The Honorable Bob Privett, Mayor of the City of Soddy-Daisy, 9835 Dayton Pike, Soddy-Daisy, Tennessee 37379.
Vermont | Woodstock (Town and Village), Windsor County | Ottauquechee River | Approximately 550 feet upstream of U.S. Route 4 | *696 | *697
|  |  | At the upstream corporate limits | *816 | *812
Maps available for inspection at the Town Hall, 31 The Green, Woodstock, Vermont.
Send comments to Mr. John Doten, Chairman of the Board of Selectmen, Town Hall, P.O. Box 488, Woodstock, Vermont 05091.

(Catalog of Federal Domestic Assistance No. 83.100, “Flood Insurance.”)
Robert F. Shea,
Acting Administrator, Federal Insurance and Mitigation Administration.

[FR Doc. 01-24348 Filed 9-27-01; 8:45 am]

BILLING CODE 6718-04-P